DEPARTMENT OF THE INTERIOR

Fish and Wildlife Service

DEPARTMENT OF COMMERCE

National Oceanic and Atmospheric Administration

[FWS-R8-ES-2015-N184; FF08ESMF00-FXES11120800000-156]

Proposed Habitat Conservation Plan/Natural Community Conservation Plan for Western Butte County, California: Environmental Impact Statement

AGENCY: Fish and Wildlife Service, Interior; National Marine Fisheries Service, Commerce.

ACTION: Notice of availability; receipt of permit application, joint Draft Environmental Impact Statement/Environmental Impact Report, joint draft Habitat Conservation Plan/Natural Community Conservation Plan; request for comment.

SUMMARY: This notice advises the public that we, the U.S. Fish and Wildlife Service (FWS), have prepared a draft environmental impact statement and environmental impact report (DEIS/R) under the National Environmental Policy Act of 1967, as amended (NEPA), and its implementing regulations. The National Marine Fisheries Service (NMFS), U.S. Army Corps of Engineers (Corps), and U.S. Environmental Protection Agency (EPA) are cooperating agencies on the DEIS/R.

This notice also announces the receipt of applications for 50-year incidental take permits under the Endangered Species Act of 1973, as amended. The applicants prepared the Draft Butte Regional Conservation Plan (Draft Plan, or BRCP) pursuant to the Act and the California Natural Community Conservation Planning Act of 2002 (NCCPA). The permits are needed to authorize the incidental take of 39 covered species that could result from activities covered under the proposed Draft Plan. We also announce meetings and invite comments.

DATES: Submitting Comments: To ensure consideration, written comments must be received by February 16, 2016.

Public Meetings: Three public meetings will be held:

1. Monday, January 25, 2016; 6-8 p.m., Chico Masonic Center, 1110 W. East Ave., Chico, CA 95926.

2. Tuesday, January 26, 2016; 2-4 p.m., Oroville Southside Community Center, 2959 Lower Wyandotte Rd., Oroville, CA 95966.

3. Tuesday, January 26, 2016; 6-8 p.m., Gridley City Council Chambers, 685 Kentucky St., Gridley, CA 95948.

ADDRESSES: Submitting Comments: Please address written comments to one of the following individuals:

1. Mike Thomas, Chief, Conservation Planning Division; or Eric Tattersall, Deputy Assistant Field Supervisor, by mail/hand-delivery at U.S. Fish and Wildlife Service, Sacramento Fish and Wildlife Office, 2800 Cottage Way, W-2605, Sacramento, California 95825; or by facsimile to (916) 414-6713. You may telephone (916) 414-6600 to make an appointment during regular business hours to drop off comments at the Sacramento Fish and Wildlife Office.

2. Gretchen Umlauf, by mail/hand-delivery at National Oceanic and Atmospheric Administration, West Coast Region, National Marine Fisheries Service, 650 Capitol Mall, Suite 5-100, Sacramento, California 95814; or by facsimile to (916) 930-3629. You may telephone (916) 930-5646 to make an appointment during regular business hours to drop off comments at the National Marine Fisheries Service.

Please send comments related specifically to the California Environmental Quality Act (CEQA) process to the Jon Clark, Executive Director, Butte County Association of Governments, 2580 Sierra Sunrise Terrace, Suite 100, Chico, California 95928. You may also submit comments by facsimile to (530) 879-2444.

Reviewing Documents: You may obtain copies of the Draft Plan and DEIS/R from any of the individuals in FOR FURTHER INFORMATION CONTACT, or from the Sacramento Fish and Wildlife Office Web site at http://www.fws.gov/sacramento. Copies of these documents are also available for public inspection, by appointment, during regular business hours, at the Sacramento Fish and Wildlife Office. Additionally, hard-bound copies of the DEIS/R and Draft Plan are available for viewing, or for partial or complete duplication, at the following locations in Chico:

• Butte County Association of Governments, 2580 Sierra Sunrise Terrace, Suite 100;

• Biggs Branch Library, 464A B Street;

• Chico Branch Library, 1108 Sherman Avenue;

• Gridley Branch Library, 299 Spruce Street; and

• Oroville Branch Library, 1820 Mitchell Avenue.

FOR FURTHER INFORMATION CONTACT:

(1) Rick Kuyper, Endangered Species Division; Mike Thomas, Chief, Conservation Planning Division; or Eric Tattersall, Deputy Assistant Field Supervisor, at the Sacramento Fish and Wildlife Office address above or at (916) 414-6600 (telephone); or

(2) Gretchen Umlauf, National Marine Fisheries Service, at the address above or at (916) 930-5646 (telephone).

If you use a telecommunications device for the deaf, please call the Federal Information Relay Service at (800) 877-8339.

SUPPLEMENTARY INFORMATION: This notice advises the public that we, the U.S. Fish and Wildlife Service (FWS), have prepared a draft environmental impact statement and environmental impact report (DEIS/R) under the National Environmental Policy Act of 1967, as amended (42 U.S.C. 4321 et seq.; NEPA), and its implementing regulations in the Code of Federal Regulations (CFR) at 40 CFR 1506.6. The National Marine Fisheries Service (NMFS), U.S. Army Corps of Engineers (Corps), and U.S. Environmental Protection Agency (EPA) are cooperating agencies on the DEIS/R.

This notice also announces the receipt of applications from the County of Butte, City of Oroville, City of Chico, City of Biggs, City of Gridley, Butte County Association of Governments (BCAG), California Department of Transportation (Caltrans), Western Canal Water District (WCWD), Biggs—West Gridley Water District, Butte Water District, and Richvale Irrigation District (applicants) for 50-year incidental take permits under the Endangered Species Act of 1973, as amended (16 U.S.C. 1531 et seq.; Act) from FWS and NMFS. The applicants prepared the Draft Butte Regional Conservation Plan (Draft Plan, or BRCP) pursuant to section 10(a)(1)(B) of the Act and the California Natural Community Conservation Planning Act of 2002 (NCCPA). A twelfth permit will also be considered for the implementing entity that will form prior to permit issuance. The implementing entity is described in the Draft Plan and Draft IA and will be composed of representatives from each of the applicants. The applicants are requesting the authorization of incidental take for 39 covered species that could result from activities covered under the proposed Draft Plan. We announce meetings and invite comments.

Introduction

The Draft Plan is a comprehensive, regional habitat conservation plan designed to provide long-term conservation and management of natural communities, sensitive species, and the habitats upon which those species depend, while accommodating other important land uses. The Draft Plan is being submitted as a habitat conservation plan pursuant to the Act, and a natural community conservation plan under the California Natural Community Conservation Planning Act (NCCPA).

FWS will serve as the administrative lead for all actions related to this Federal Register notice for the EIS component of the EIS/EIR and receipt of a section 10(a)(1)(B) permit for species under FWS's jurisdiction. NMFS will serve as the administrative lead for all actions related to this Federal Register notice for receipt of a section 10(a)(1)(B) permit for species under NMFS's jurisdiction. BCAG will serve as the State lead agency under the California Environmental Quality Act (CEQA) for the EIR component. BCAG, in accordance with the CEQA, is publishing a similar notice.

In addition to this notice of the draft EIR/EIS, EPA is publishing a notice announcing the draft EIS, as required under section 309 of the Clean Air Act (42 U.S.C. 7401 et seq.). The publication of EPA's notice is the official start of the minimum requirement for a public comment period for an EIS (see EPA's Role in the EIS Process).

Background Information

Section 9 of the Act (16 U.S.C. 1531-1544 et seq.) and Federal regulations (50 CFR part 17) prohibit the taking of fish and wildlife species listed as endangered or threatened under section 4 of the Act. Take of federally listed fish or wildlife is defined under the Act as to harass, harm, pursue, hunt, shoot, wound, kill, trap, capture, or collect listed species, or attempt to engage in such conduct. The term “harass” is defined in the regulations as to carry out actions that create the likelihood of injury to listed species to such an extent as to significantly disrupt normal behavioral patterns, which include, but are not limited to, breeding, feeding, or sheltering (50 CFR 17.3). The term “harm” is defined in the regulations as significant habitat modification or degradation that results in death or injury of listed species by significantly impairing essential behavioral patterns, including breeding, feeding, or sheltering (50 CFR 17.3). However, under specified circumstances, the Service may issue permits that allow the take of federally listed species, provided that the take that occurs is incidental to, but not the purpose of, an otherwise lawful activity.

Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicants will, to the maximum extent practicable, minimize and mitigate the impact of such taking;

(3) The applicants will develop a proposed HCP and ensure that adequate funding for the HCP will be provided;

(4) The taking will not appreciably reduce the likelihood of the survival and recovery of the species in the wild; and

(5) The applicants will carry out any other measures that the Service may require as being necessary or appropriate for the purposes of the HCP.

Proposed Project

In 2007, the BRCP Planning Agreement was entered into and by and among the Local Agencies, BCAG, CDFG, the Service and NMFS. In 2010, Western Canal Water District, Biggs West Gridley Water District, Butte Water District, Richvale Irrigation District and Caltrans became signatories to the Planning Agreement. The Planning Agreement set out the initial scope of the program and defined the roles and responsibilities of the parties in the development of the BRCP. The Planning Agreement has helped guide the BRCP planning process and to define the initial scope of the effort. BCAG served as the lead in coordination of the process and preparation of the BRCP.

The BRCP's conservation strategy proposes to provide a regional approach for the long-term conservation of covered species (see Covered Species below) and natural communities within the BRCP plan area while allowing for compatible future land use and development under county and city general plan updates and the regional transportation plans. The BRCP identifies and addresses the covered activities carried out by the permittees that may result in take of covered species within the BRCP plan area.

The proposed BRCP is consistent with and is intended to support compliance with other Federal and State wildlife and related laws and regulations, other local conservation planning efforts, and the city and county general plans. The BRCP was developed in coordination with the development of city and county general plans in the BRCP plan area, with feedback loops between the BRCP and general plan processes. These feedback loops identified opportunities and constraints and allowed for improvements in the general plans regarding the avoidance and minimization of impacts on biological resources and the development of open space and conservation elements that dovetail with the BRCP.

The proposed BRCP is designed to streamline and coordinate existing processes for review and permitting of public and private activities that potentially affect protected species. To meet this goal, the BRCP sets out a conservation strategy that includes measures intended to ensure that impacts on covered species and habitats related to covered activities are avoided, minimized, or mitigated, as appropriate. These covered activities encompass the range of existing and future activities that are associated with much of the regional economy (see Covered Activities, below). The proposed conservation strategy includes establishing a reserve system that would be composed of an estimated 89,600 acres of large, contiguous blocks of land that would be permanently preserved, monitored, and managed, and restoration of an estimated 1,121 acres of covered species' habitat. The conservation strategy would remain in rough step with impacts, and the reserve system would be assembled according to predefined milestones throughout the proposed 50-year permit term.

Plan Area

The BRCP plan area (or permit area) includes approximately 564,270 acres, including the western lowlands and foothills of Butte County. The BRCP Plan Area is bounded on the west by county boundaries with Tehama, Glenn, and Colusa Counties; bounded on the south by boundaries with Sutter and Yuba Counties; bounded on the north by the boundary with Tehama County; and bounded on the east by the upper extent of landscape dominated by oak woodland natural communities. Specifically, the eastern oak woodland boundary is defined by a line below which land cover types dominated by oak trees comprise more than one half of the land cover present, plus a small portion of the City of Chico that extends above the oak zone. The boundary of the BRCP plan area is based on political, ecological, and hydrologic factors.

Covered Activities

The proposed section 10 incidental take permit may allow take of wildlife covered species resulting from covered activities on non-Federal land in the proposed BRCP plan area. BCAG and local partners are requesting incidental take authorization for covered species that could be affected by activities identified in the BRCP. The activities within the BRCP plan area for which incidental take permit coverage is requested include construction and maintenance of facilities and infrastructure, both public and private, that are consistent with local general plans, and local, State, and Federal laws. The following is a summary of covered activities as proposed in the BRCP. Activities are grouped geographically (within urban permit areas, outside urban permit areas, and within the system of conservation lands established in the BRCP) and are further grouped into activities that result in permanent development, and activities involving maintenance of existing or new facilities that are expected to occur over time during the permit duration. This following list is not intended to be exhaustive; rather, it provides an overview of the types of activities that would be expected to occur.

1. Activities within Urban Permit Areas (UPAs) are areas within the BRCP plan area within which the cities and County anticipate urban development under their respective general plan updates.

a. Permanent Development: covered activities within UPAs as a result of new construction and improvements to existing facilities are covered, including the following types of activities: residential, commercial, public facilities, and industrial construction; recreational activity-related construction; transportation facilities construction; pipeline installation; utility services (above and below ground); waste and wastewater management activities; flood control and stormwater management activities; and in-water permanent development projects.

b. Recurring Maintenance: covered activities within UPAs include maintenance of existing and new facilities resulting in temporary impacts, including the following types of activities: recreational activities; transportation facilities maintenance; pipeline maintenance; utility services; waste and wastewater facilities management activities; flood control and stormwater management activities; vegetation management; bridge and drainage structure maintenance; in-water recurring maintenance activities; and irrigation and drainage canal activities (Western Canal Water District, Biggs West Gridley Water District, Butte Water District, and Richvale Irrigation District).

2. Activities Outside UPAs are areas of the County within the BRCP Plan Area and located outside of the UPAs. Covered activities include linear utilities, transportation construction and maintenance projects, and agricultural support services projects. Outside UPAs do not include areas that become part of BRCP conservation lands.

a. Permanent Development: covered activities of outside UPAs include new construction and improvements to existing facilities, including the following types of activities: waste management and wastewater facilities; rerouting of canals (Western Canal Water District, Biggs West Gridley Water District, Butte Water District, and Richvale Irrigation District); transportation facilities construction; BCAG Regional Transportation Plan and Caltrans projects; County rural bridge replacement projects; Butte County rural intersection improvement projects; Butte County rural roadway improvement projects; in-water permanent development projects; and agricultural services.

b. Recurring Maintenance covered activities of outside UPAs include maintenance of existing and new facilities, including the following types of activities: waste and wastewater management activities; irrigation and drainage canal activities (Western Canal Water District, Biggs West Gridley Water District, Butte Water District, and Richvale Irrigation District); transportation facilities maintenance; flood control and stormwater management activities; vegetation management; in-water maintenance activities; and bridge and drainage structure maintenance.

3. Conservation Lands include the system of conservation lands established under the BRCP. It includes conservation actions implemented by the BRCP on conservation lands, including the following types of activities: habitat management; habitat restoration and enhancement; habitat and species monitoring; directed studies; general maintenance of conservation lands and facilities; avoidance and minimization measures; and other species conservation measures.

Covered Species

Covered Species are those species addressed in the proposed BRCP for which conservation actions will be implemented and for which the Applicants will seek incidental take authorizations for a period of up to 50 years. Proposed covered species include threatened and endangered species listed under the Act, species listed under the California Endangered Species Act (CESA), as well as currently unlisted species that have the potential to become listed during the life of the BRCP. The BRCP currently includes 39 listed and non-listed wildlife and plant species.

The following federally listed threatened and endangered wildlife species are proposed to be covered by the BRCP (“NMFS” indicates those species to be included only on the NMFS permit, and “FWS” indicates those species only to be included on the FWS permit): The threatened Central Valley steelhead (Oncorhynchus mykiss) (NMFS), endangered Sacramento River winter-run Chinook salmon (Oncorhynchus tshawytscha) (NMFS), threatened Central Valley spring-run Chinook salmon (Oncorhynchus tshawytscha) (NMFS), threatened green sturgeon (Acipenser medirostris) (NMFS), threatened Valley elderberry longhorn beetle (Desmocerus californicus dimorphus) (FWS), endangered vernal pool tadpole shrimp (Lepidurus packardi) (FWS), endangered conservancy fairy shrimp (Branchinecta conservatio) (FWS), threatened vernal pool fairy shrimp (Branchinecta lynchi) (FWS), and threatened giant garter snake (Thamnophis gigas) (FWS).

The following non-listed wildlife species are proposed to be covered by the BRCP (“NMFS” indicates those species to be included on the NMFS permit and “FWS” indicates those species to be included on the FWS permit): tricolored blackbird (Agelaius tricolor) (FWS), yellow-breasted chat (Icteria virens) (FWS), bank swallow (Riparia riparia) (FWS), Western burrowing owl (Athene cunicularia hypugaea) (FWS), western yellow-billed cuckoo (Coccyzus americanus occidentalis) (FWS), greater sandhill crane (Grus canadensis tabida) (FWS), California black rail (Laterallus jamaicensis coturniculus) (FWS), American peregrine falcon (Falco peregrinus anatum) (FWS), Swainson's hawk (Buteo swainsoni) (FWS), white-tailed kite (Elanus leucurus) (FWS), bald eagle (Haliaeetus leucocephalus) (FWS), Blainville's horned lizard (Phrynosoma blainvillii) (FWS), Western pond turtle (Actinemys marmorata) (FWS), foothill yellow-legged frog (Rana boylii) (FWS), Western spadefoot toad (Spea hammondii) (FWS), and Central Valley fall/late fall-run Chinook salmon (Oncorhynchus tshawytscha) (NMFS).

Take of listed plant species is not prohibited on non-Federal land under the Act, and cannot be authorized under a section 10 permit. However, the applicants propose to include plant species in recognition of the conservation benefits provided for them under an HCP. For the purposes of the Plan, certain plant species are further included to meet regulatory obligations under section 7 of the Act and the CESA. All species included on an incidental take permit would receive assurances under FWS's “No Surprises” regulations found in 50 CFR 17.22(b)(5) and 17.32(b)(5). The following federally listed plant species are proposed to be included in the BRCP in recognition of the conservation benefits provided for them under the BRCP and the assurances permit holders would receive if they are included on FWS's permit: the threatened Hoover's spurge (Chamaesyce hooveri), endangered Butte County meadowfoam (Limnanthes floccosa ssp. californica), endangered hairy Orcutt grass (Orcuttia pilosa), threatened slender Orcutt grass (Orcuttia tenuis), and endangered Greene's tuctoria (Tuctoria greenei). The following unlisted plant species are also proposed to be included in the BRCP: Ferris' milkvetch (Astragalus tener var. ferrisiae), lesser saltscale (Atriplex minuscula), Ahart's dwarf rush (Juncus leiospermus var. ahartii), Red Bluff dwarf rush (Juncus leiospermus var. leiospermus), veiny monardella (Monardella douglasii ssp. venosa), Ahart's paronychia (Paronychia ahartii), California beaked-rush (Rhynchospora californica), Butte County checkerbloom (Sidalcea robusta), and Butte County golden clover (Trifolium jokerstii).

National Environmental Policy Act Compliance

FWS prepared the EIS, with NMFS, Corps, and EPA as cooperating agencies. The EIS is the Federal portion of the Draft EIS/R, to analyze the impacts of issuing incidental take permits based on the Draft Plan. BCAG facilitated the preparation of the EIR portion of the Draft EIS/R, in compliance with the CEQA, but all applicants share the CEQA lead agency role. The California Department of Fish and Wildlife is a CEQA Trustee and Responsible Agency. The Draft EIS/R was developed to inform the public of the proposed action, alternatives, and associated impacts; address public comments received during the scoping period for the Draft EIS/R; and disclose irreversible commitments of resources. The Draft EIS/R was developed to inform the public of the proposed action, alternatives, and associated impacts; address public comments received during the scoping period for the Draft EIS/R; and disclose irreversible commitments of resources.

The proposed permit issuance triggers the need for compliance with NEPA. FWS published a Notice of Intent (NOI) to prepare an EIS/R in the Federal Register on December 14, 2012 (77 FR 74500). The NOI announced a public scoping period during which time the public was invited to provide written comments and attend two public scoping meetings, which were held on January 9, 2012, in Oroville and Chico, California.

The Service is now providing notice of the availability of the Draft EIS/R, which evaluates the impacts of the Proposed Action described above (i.e., issuance of the permits and implementation of the Draft Plan), as well as the No-Action Alternative, a Reduced Development/Reduced Fill Alternative, and a Greater Conservation Alternative, which are described below.

No-Action Alternative

Under the No-Action Alternative, FWS and NMFS would not issue incidental take permits to the Applicants, and the Draft Plan would not be implemented. Under this alternative, projects that may adversely affect federally listed species would require project-level consultation with FWS and NMFS pursuant to section 7 or section 10 of the Act. The applicants and others whose ongoing activities or future actions have the potential for incidental take of State-listed species in the plan area would apply for incidental take authorization under CESA through a Section 2081(b) permit. Under the No Action Alternative, there would be no comprehensive means to coordinate and standardize mitigation and compensation requirements of the Act and CESA within the Plan Area. This is anticipated to result in a more costly, less equitable, less efficient project review process that would reap fewer conservation benefits. Conservation planning and implementation would not happen at a regional scale and, therefore, would not establish a large interconnected system of conservation lands to meet the needs of the species covered by the BRCP.

Reduced Development/Reduced Fill Alternative

Under the Reduced Development/Reduced Fill Alternative, the reduced development alternatives described in the applicants' general plan EIRs were combined to create a single reduced development/reduced fill footprint. Under the applicant's general plan alternatives, there would be either a reduction in the development footprint for the respective jurisdictions such that the development would be concentrated closer to urban centers or a reduction in the total dwelling units and commercial/industrial square footage such that less development would occur. Covered activities under this alternative would be similar to those described in the BRCP but would be limited to the reduced-development footprint and to a permit term of 30 years. The conservation strategy would be similar to that of the BRCP because it would apply similar natural community acreage limitations. This alternative would also reduce impacts on waters of the United States by reducing the potential impacts on jurisdictional waters, including wetlands, by reducing the amount of overall development anticipated to occur within the Plan Area and by applying the acreage limitations to jurisdictional waters as described in the BRCP. This also includes reduced dredge or fill of jurisdictional waters of the United States, including wetlands, by reducing or eliminating the types of covered activities identified in the BRCP associated with bridges and transportation projects. However, though the conservation measures (and any activities undertaken by the water districts or irrigation districts) would be the same as under the proposed action, there would be an overall reduced amount and extent of conserved lands under this alternative because less development would occur over a shorter time period.

Greater Conservation Alternative

The Greater Conservation Alternative would increase the target amount of certain natural community types to be conserved under the conservation strategy. This alternative would maintain the same Plan Area, covered species, covered activities, and conservation measures as the Proposed Action Alternative, but would modify the proposed conservation strategy to increase conservation of two land cover types: grasslands and rice. The increase in these land cover types, as compared to the Proposed Action, is expected to provide additional habitat for certain covered species (e.g., Swainson's hawk, white-tailed kite, and giant garter snake). This alternative would increase grasslands conserved by 9,850 acres (an approximately 20 percent increase) and increase rice conservation by 35,310 acres (an approximately 90 percent increase) as compared to the proposed action. The Greater Conservation Alternative would result in approximately 51,955 and up to 78,140 total acres of grasslands and rice conservation, respectively.

EPA's Role in the EIS Process

The EPA is charged under section 309 of the Clean Air Act to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

For more information, see http://www.epa.gov/compliance/nepa/eisdata.html. You may search for EPA comments on EISs, along with EISs themselves, at https://cdxnodengn.epa.gov/cdx-enepa-public/action/eis/search.

Public Comments

We request data, comments, new information, or suggestions from the public, other concerned governmental agencies, the scientific community, Tribes, industry, or any other interested party on this notice, the Draft EIS/R. and Draft Plan. We particularly seek comments on the following:

1. Biological information concerning the species;

2. Relevant data concerning the species;

3. Additional information concerning the range, distribution, population size, and population trends of the species;

4. Current or planned activities in the subject area and their possible impacts on the species;

5. The presence of archeological sites, buildings and structures, historic events, sacred and traditional areas, and other historic preservation concerns, which are required to be considered in project planning by the National Historic Preservation Act; and

6. Identification of any other environmental issues that should be considered with regard to the proposed development and permit action.

You may submit your comments and materials by one of the methods listed in the ADDRESSES section. Comments and materials we receive will be available for public inspection by appointment, during normal business hours (Monday through Friday, 8 a.m. to 4:30 p.m.) at the Service's Sacramento address (see ADDRESSES).

Public Availability of Comments

Before including your address, phone number, or other personal identifying information in your comment, you should be aware that your entire comment—including your personal identifying information—might be made publicly available at any time. While you can ask us in your comment to withhold your personal identifying information from public review, we cannot guarantee that we will be able to do so.

Next Steps

This notice is provided under section 10(a) of the Act and FWS regulations for implementing the National Environmental Policy Act of 1969 (40 CFR 1506.6). We will evaluate the applications, associated documents, and comments submitted thereon to prepare a Final EIS/R. Permit decisions will be made no sooner than 30 days after the publication of the NOA of for the Final EIS/R and completion of the Record of Decision.

Authority

We publish this notice under the National Environmental Policy Act of 1969, as amended (42 U.S.C. 4321-4347 et seq.; NEPA), and its implementing regulations in the Code of Federal Regulations (CFR) at 40 CFR parts 1500-1508, as well as in compliance with section 10(c) of the Endangered Species Act (16 U.S.C. 1531-1544 et seq.; Act).

Dated: November 6, 2015.
Alexandra Pitts,
Deputy Regional Director, Pacific Southwest Region, U.S. Fish and Wildlife Service, Sacramento, California.
Dated: November 6, 2015.
Angela Somma,
Chief, Endangered Species Conservation Division, Office of Protected Resources, National Marine Fisheries Service.

[FR Doc. 2015-29447 Filed 11-17-15; 8:45 am]

BILLING CODE 4333-15-P